DEPARTMENT OF ENERGY

Federal Energy Regulatory Commission

[Docket No. RP03-433-002]

Energy West Development, Inc.; Notice of Compliance Filing

August 29, 2003.

Take notice that on August 25, 2003, Energy West Development, Inc. (Energy West), tendered for filing as part of its FERC Gas Tariff, Original Volume No. 1, the following tariff sheets to correct the page numbering for the tariff sheets filed on July 22, 2003, in this proceeding:

First Revised Sheet No. 23

First Revised Sheet No. 24

First Revised Sheet No. 29

First Revised Sheet No. 33

First Revised Sheet No. 42

First Revised Sheet No. 60

Energy West states that copies of the filing have been mailed to each of its customers and interested parties.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the eLibrary (FERRIS) link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the eLibrary (e-Filing) link.

Protest Date: September 8, 2003.

Magalie R. Salas,
Secretary.

[FR Doc. 03-22726 Filed 9-5-03; 8:45 am]

BILLING CODE 6717-01-P